FEDERAL MARITIME COMMISSION

[Docket No. 22-32]

Notice of Filing of Complaint and Assignment; DOKA U.S.A. LTD., Complainant v. MSC MEDITERRANEAN SHIPPING COMPANY (USA) INC., Respondent;

Served: November 22, 2022.

Notice is given that a complaint has been filed with the Federal Maritime Commission (Commission) by Doka U.S.A. Ltd., hereinafter “Complainant,” against MSC Mediterranean Shipping Company (USA) Inc., hereinafter “Respondent.” Complainant states that it is an international corporation with an office located in New Jersey. Complainant identifies the Respondent as a vessel-operating common carrier incorporated in New York with its principal place of business located in Albany, NY.

Complainant alleges that Respondent violated 46 U.S.C. 41102(c), 46 U.S.C. 41104 (a)(15) and 46 U.S.C. 41104(d), regarding its practices and the billing and assessment of charges on the shipments of the Complainant's container cargo, including demurrage, detention, and dwell charges. An answer to the complaint is due to be filed with the Commission within twenty-five (25) days after the date of service. The full text of the complaint can be found in the Commission's Electronic Reading Room at https://www2.fmc.gov/readingroom/proceeding/22-32/.

This proceeding has been assigned to Office of Administrative Law Judges. The initial decision of the presiding officer in this proceeding shall be issued by November 22, 2023, and the final decision of the Commission shall be issued by June 5, 2024.

William Cody,
Secretary.

[FR Doc. 2022-26009 Filed 11-28-22; 8:45 am]

BILLING CODE 6730-02-P